DEPARTMENT OF TRANSPORTATION

[DOT-OST-2018-0174]

Department of Transportation Advisory Committee on Human Trafficking; Notice of Public Meeting

AGENCY: Office of the Secretary of Transportation, Department of Transportation.

ACTION: Notice of public meeting.

SUMMARY: This notice announces a meeting of the Department of Transportation Advisory Committee on Human Trafficking.

DATES: The meeting will be held on December 6, 2018, from 9:30 a.m. to 5:00 p.m. EDT.

ADDRESSES: The meeting will be held at the U.S. Department of Transportation, 1200 New Jersey Avenue SE, Washington, DC 20590. Individuals wishing for audio participation and any person requiring accessibility accommodations should contact the Official listed in the next section.

FOR FURTHER INFORMATION CONTACT: David Short, Designated Federal Officer, U.S. Department of Transportation, at trafficking@dot.gov or (202) 366-8822. Also visit the ACHT internet website at https://www.transportation.gov/stophumantrafficking/acht.

SUPPLEMENTARY INFORMATION:

I. Background

ACHT was created in accordance with Section 5 of the Combating Human Trafficking in Commercial Vehicles Act (Pub. L. 115-99) to make recommendations to the Secretary of Transportation on actions the Department can take to help combat human trafficking, and to develop recommended best practices for States and State and local transportation stakeholders in combatting human trafficking.

II. Agenda

At the December 6, 2018, meeting, the agenda will cover the following topics:

• Welcome and Introductions

• ACHT Overview and Requirements

• DOT's Counter-Trafficking Initiatives

• Public Participation

• Subcommittees, Next Steps, and Timeline

A final agenda will be posted on the ACHT internet website at https://www.transportation.gov/stophumantrafficking/acht at least one week in advance of the meeting.

III. Public Participation

The meeting will be open to the public on a first-come, first served basis, as space is limited. Members of the public who wish to attend in-person are asked to register, including name and affiliation, to trafficking@dot.gov by November 26, 2018. Individuals requesting accessibility accommodations, such as sign language, interpretation, or other ancillary aids, may do so via email at: trafficking@dot.gov by November 26, 2018.

There will be 30 minutes allotted for oral comments from members of the public joining the meeting. To accommodate as many speakers as possible, the time for public comments may be limited. Individuals wishing to reserve speaking time during the meeting must submit a request at the time of registration, as well as the name, address, and organizational affiliation of the proposed speaker. If the number of registrants requesting to make statements is greater than can be reasonably accommodated during the meeting, the Office of the Secretary may conduct a lottery to determine the speakers. Speakers are requested to submit a written copy of their prepared remarks by 5:00 p.m. EDT on November 26, 2018, for inclusion in the meeting records and for circulation to ACHT members. Written comments timely submitted from those not selected to speak will nonetheless be accepted and considered as part of the record.

Persons who wish to submit written comments for consideration by ACHT during the meeting must submit them no later than 5:00 p.m. EDT on November 26, 2018, to ensure transmission to ACHT prior to the meeting. Comments received after that date and time will be distributed to the members but may not be reviewed prior to the meeting.

Copies of the meeting minutes will be available on the ACHT internet website at https://www.transportation.gov/stophumantrafficking/acht.

* * * * *

Dated: November 15, 2018.
Joel Szabat,
Deputy Assistant Secretary, Aviation and International Affairs.

[FR Doc. 2018-25380 Filed 11-20-18; 8:45 am]

BILLING CODE 4910-9X-P